DEPARTMENT OF TRANSPORTATION

[Docket DOT-OST-2010-0263]

Application of City Wings, Inc. D/B/A Seaflight for Commuter Authority

AGENCY: Office of the Secretary, DOT.

ACTION: Notice of Order to Show Cause (Order 2012-7-22).

SUMMARY: The Department of Transportation is directing all interested persons to show cause why it should not issue an order finding City Wings, Inc. d/b/a Seaflight fit, willing, and able, and awarding it Commuter Air Carrier Authorization.

DATES: Persons wishing to file objections should do so no later than July 31, 2012.

ADDRESSES: Objections and answers to objections should be filed in Docket DOT-OST-2010-0263 and addressed to U.S. Department of Transportation, Docket Operations, (M-30, Room W12-140), 1200 New Jersey Avenue SE., West Building Ground Floor, Washington, DC 20590, and should be served upon the parties listed in Attachment A to the order.

FOR FURTHER INFORMATION CONTACT: Damon D. Walker, Air Carrier Fitness Division (X-56, Room W86-465), U.S. Department of Transportation, 1200 New Jersey Avenue SE., Washington, DC 20590, (202) 366-7785.

Dated: July 17, 2012.
Susan L. Kurland,
Assistant Secretary for Aviation and International Affairs.

[FR Doc. 2012-17894 Filed 7-20-12; 8:45 am]

BILLING CODE P